DEPARTMENT OF COMMERCE

[I.D. 030703B]

Submission for OMB Review; Comment Request

ACTION: The Department of Commerce has submitted to the Office of Management and Budget (OMB) for clearance the following proposal for collection of information under the provisions of the Paperwork Reduction Act (44 U.S.C. Chapter 35).

SUPPLEMENTARY INFORMATION: Agency: National Oceanic and Atmospheric Administration.

Title: Large Pelagic Fishing Survey.

Form Number(s): None.

OMB Approval Number: 0648-0380.

Type of Request: Regular submission.

Burden Hours: 5,218.

Number of Respondents: 22,500.

Average Hours Per Response: 2 minutes for a pre-screen phone contact; 8 minutes per telephone survey response; 5 minutes per dockside interview response; 1.5 minutes per interviewer evaluation response; 3 minutes per socio-economic response; 15 minutes per charter clientele response; 1 minute per biological sampling response; 8 minutes per headboat survey response; and 6 minutes for a North Carolina Winter Bluefin Tuna Dockside Survey.

Needs and Uses: The Large Pelagic Fishing Survey consists of dockside and telephone surveys of recreational anglers for large pelagic fish (tunas, sharks, and billfish) in the Atlantic Ocean. The survey provides NMFS with information to monitor catch of bluefin tuna and marlin. Catch monitoring in these fisheries and collection of catch and effort statistics for all pelagic fish is required under the Atlantic Tunas Convention Act and the Magnuson-Stevens Fishery Conservation and Management Act. The information collected is essential for the U.S. to meet its reporting obligations to the International Commission for the Conservation of Atlantic Tuna.

Affected Public: Individuals or households, business or other for-profit organizations.

Frequency: On occasion, weekly, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: April 3, 2003.
Gwellnar Banks,
Management Analyst, Office of the Chief Information Officer.

[FR Doc. 03-8820 Filed 4-9-03; 8:45 am]

BILLING CODE 3510-22-S